DEPARTMENT OF ENERGY

Federal Energy Regulatory Commission

[Docket No. EC00-27.003, et al.]

UtiliCorp United Inc., et al.; Electric Rate and Corporate Regulation Filings

April 4, 2001.

Take notice that the following filings have been made with the Commission:

1. UtiliCorp United Inc.

[Docket No. EC00-27-003]

Take notice that on March 27, 2001, UtiliCorp United Inc. (UtiliCorp) tendered for filing an updated competitive analysis addressing the planned integration of UtiliCorp's Missouri Public Service and St. Joseph Light and Power divisions in compliance with the Commission's order issued July 26, 2000, in UtiliCorp United Inc. and St. Joseph Light and Power Co., UtiliCorp United Inc. and Empire District Electric Co., 92 FERC ­¶ 61,067 (2000).

Comment date: April 26, 2001, in accordance with Standard Paragraph E at the end of this notice.

2. American National Power, Inc., ANP Funding I, LLC, ANP Bellingham Energy Company, LLC, ANP Blackstone Energy Company, LLC, ANP Milford Power Company, LLC, Milford Energy Company, LLC, and ANP Holding Company

[Docket No. EC01-85-000]

Take notice that on March 30, 2001, American National Power, Inc. (ANP), ANP Funding I, LLC (ANP Funding), ANP Bellingham Energy Company, LLC (ANP Bellingham), ANP Blackstone Energy Company, LLC (ANP Blackstone), ANP Milford Power Company, LLC (ANP Milford), Milford Energy Company, LLC (Milford), and ANP Holding Company (ANP Holding) (collectively, Applicants) filed with the Federal Energy Regulatory Commission an application pursuant to section 203 of the Federal Power Act for authorization of a disposition of jurisdictional facilities whereby certain Applicants converted their form of business organizations to limited liability companies and Applicants proposed a change in the upstream ownership interests in certain subsidiaries.

Comment date: April 20, 2001, in accordance with Standard Paragraph E at the end of this notice.

3. ExTex LaPorte Limited Partnership

[Docket No. EG01-164-000]

Take notice that on March 30, 2001, ExTex LaPorte Limited Partnership (ExTex) filed an Application for Determination of Exempt Wholesale Generator Status pursuant to section 32(a)(1) of the Public Utility Holding Company Act of 1935, all as more fully explained in the Application.

Comment date: April 25, 2001, in accordance with Standard Paragraph E at the end of this notice. The Commission will limit its consideration of comments to those that concern the adequacy or accuracy of the application.

4. Delta Energy Center, LLC

[Docket No. EG01-165-000]

Take notice that on March 30, 2001, Delta Energy Center, LLC (Delta Energy Center) filed with the Federal Energy Regulatory Commission (Commission) an application for determination of exempt wholesale generator status pursuant to Part 365 of the Commission's regulations.

Delta Energy Center, a Delaware limited liability company, proposes to own and operate an electrical generating facility within the City of Pittsburgh, California, and to make sales of electric energy exclusively at wholesale. The facilities will consist of three 200-megawatt, natural gas-fired turbine generators; three heat recovery steam generator units; a shared 300-megawatt steam turbine generator; and cooling towers and associated equipment.

Delta Energy Center states that copies of the application were served upon the Securities and Exchange Commission and the California Public Utilities Commission.

Comment date: April 25, 2001, in accordance with Standard Paragraph E at the end of this notice. The Commission will limit its consideration of comments to those that concern the adequacy or accuracy of the application.

5. NWP Indian Mesa Wind Farm L.P.

[Docket No. EG01-166-000]

Take notice that on March 30, 2001, NWP Indian Mesa Wind Farm L.P. (Applicant), a Delaware limited partnership, whose address is 600 Travis, Suite 4200, Houston, Texas 77002, filed with the Federal Energy Regulatory Commission an application for determination of exempt wholesale generator status pursuant to part 365 of the Commission's regulations.

Applicant intends to construct an approximate 82.5 MW wind power independent power production facility located in Pecos County, Texas (the Facility). The Facility is currently under development and will be owned by Applicant. Electric energy produced by the Facility will be sold by Applicant to the wholesale power market in the United States.

Comment date: April 25, 2001, in accordance with Standard Paragraph E at the end of this notice. The Commission will limit its consideration of comments to those that concern the adequacy or accuracy of the application.

6. Roseton OP LLC

[Docket No. EG01-167-000]

Take notice that on March 30, 2001, Roseton OP LLC (the Applicant) filed with the Federal Energy Regulatory Commission an application for determination of exempt wholesale generator status pursuant to Part 365 of the Commission's regulations.

The Applicant is a Delaware limited liability company which is the sole member of Roseton OL LLC, a Delaware limited liability company which has been formed to purchase from Dynegy Roseton, L.L.C. the Roseton Facility, which consists of an approximately 1200 MW gas- and oil-fired facility consisting of two 600 MW steam units as well as an undivided interest in the related common facilities, and to lease the Roseton Facility to Dynegy Roseton, L.L.C under a long-term lease.

Comment date: April 25, 2001, in accordance with Standard Paragraph E at the end of this notice. The Commission will limit its consideration of comments to those that concern the adequacy or accuracy of the application.

7. Danskammer OL LLC

[Docket No. EG01-168-000]

Take notice that on March 30, 2001, Danskammer OL LLC (the Applicant) filed with the Federal Energy Regulatory Commission an application for determination of exempt wholesale generator status pursuant to Part 365 of the Commission's regulations.

The Applicant is a Delaware limited liability company which has been formed for the benefit of Danskammer OP LLC, a Delaware limited liability company, to purchase from Dynegy Danskammer, L.L.C. the Danskammer Facility, which consists of two units (Units 3 and 4) of the total four-unit, approximately 500 MW gas- and oil-fired facility, as well as an undivided interest in all common facilities related to Units 3 and 4, and to lease the Danskammer Facility to Dynegy Danskammer, L.L.C under a long-term lease.

The Applicant is a Delaware limited liability company which has been formed to purchase the Danskammer Facility, which consists of two units (Units 3 and 4) of the total four-unit, approximately 500 MW gas- and oil-fired facility, as well as an undivided interest in all common facilities related to Units 3 and 4.

Comment date: April 25, 2001, in accordance with Standard Paragraph E at the end of this notice. The Commission will limit its consideration of comments to those that concern the accuracy or adequacy of the application.

8. Danskammer OP LLC

[Docket No. EG01-169-000]

Take notice that on March 30, 2001, Danskammer OP LLC (the Applicant) filed with the Federal Energy Regulatory Commission an application for determination of exempt wholesale generator status pursuant to Part 365 of the Commission's regulations.

The Applicant is a Delaware limited liability company which is the sole member of Danskammer OL LLC, a Delaware limited liability company which has been formed to purchase from Dynegy Danskammer, L.L.C. the Danskammer Facility, which consists of two units (Units 3 and 4) of the total four-unit, approximately 500 MW gas- and oil-fired facility as well as an undivided interest in all common facilities related to Units 3 and 4, and to lease the Danskammer Facility to Dynegy Danskammer, L.L.C under a long-term lease.

Comment date: April 25, 2001, in accordance with Standard Paragraph E at the end of this notice. The Commission will limit its consideration of comments to those that concern the accuracy or adequacy of the application.

9. Roseton OL LLC

[Docket No. EG01-170-000]

Take notice that on March 30, 2001, Roseton OL LLC (the Applicant) filed with the Federal Energy Regulatory Commission an application for determination of exempt wholesale generator status pursuant to Part 365 of the Commission's regulations.

The Applicant is a Delaware limited liability company which has been formed for the benefit of Roseton OP LLC, a Delaware limited liability company, to purchase from Dynegy Roseton, L.L.C. the Roseton Facility, an approximately 1200 MW gas- and oil-fired facility consisting of two 600 MW steam units and an undivided interest in the related common facilities, and to lease the Roseton Facility to Dynegy Roseton, L.L.C under a long-term lease.

Comment date: April 25, 2001, in accordance with Standard Paragraph E at the end of this notice. The Commission will limit its consideration of comments to those that concern the adequacy or accuracy of the application.

10. Electricity Capital, LLC, El Cap I, LLC, and El Cap II, LLC

[Docket No. EG01-171-000]

Take notice that on March 28, 2001, Electricity Capital, LLC (Electricity Capital), El Cap I, LLC (El Cap I), and El Cap II, LLC (El Cap II), Delaware limited liability companies, filed with the Federal Energy Regulatory Commission an application for determination of exempt wholesale generator status pursuant to part 365 of the Commission's regulations.

Applicants are engaged directly and exclusively in the business of owning and operating all or part of one or more eligible facilities and selling electric energy and capacity at wholesale. Applicants intend to produce electricity using natural gas-fired generators. El Cap I and El Cap II are wholly owned subsidiaries of Electricity Capital.

Comment date: April 25, 2001, in accordance with Standard Paragraph E at the end of this notice. The Commission will limit its consideration of comments to those that concern the adequacy or accuracy of the application.

11. Energy Systems North East, LLC

[Docket No. EG01-172-000]

Take notice that on April 2, 2001, Energy Systems North East, LLC, a Delaware limited liability company, filed with the Federal Energy Regulatory Commission (the Commission) an application for determination of exempt wholesale generator status pursuant to Part 365 of the Commission's Regulations.

Comment date: April 25, 2001, in accordance with Standard Paragraph E at the end of this notice. The Commission will limit its consideration of comments to those that concern the adequacy or accuracy of the application.

12. CMS Generation Operating Company

[Docket No. EG01-173-000]

Take notice that on April 2, 2001, CMS Generation Operating Company, 330 Town Center Drive, Suite 1000, Dearborn, Michigan 48126, filed with the Federal Energy Regulatory Commission an application for determination of exempt wholesale generator status pursuant to Part 365 of the Commission's regulations.

CMS Generation Operating Company is a wholly-owned subsidiary of CMS Generation Co., a Michigan corporation, which is a wholly-owned indirect subsidiary of CMS Energy Corporation, also a Michigan corporation. CMS Generation Operating Company will operate, under an operations and maintenance agreement with the owner, a waste tire-burning electricity generating facility located in Sterling, Connecticut with a net electrical generating capacity of approximately 26 MW.

Comment date: April 25, 2001, in accordance with Standard Paragraph E at the end of this notice. The Commission will limit its consideration of comments to those that concern the adequacy or accuracy of the application.

13. Exeter Energy Limited Partnership

[Docket No. EG01-174-000]

Take notice that on April 2, 2001, Exeter Energy Limited Partnership, 330 Town Center Drive, Suite 1000, Dearborn, Michigan 48126, filed with the Federal Energy Regulatory Commission an application for determination of exempt wholesale generator status pursuant to Part 365 of the Commission's regulations.

Exeter Energy Limited Partnership is a wholly-owned indirect subsidiary of CMS Generation Co., a Michigan corporation, which is a wholly-owned indirect subsidiary of CMS Energy Corporation, also a Michigan corporation. Exeter Energy Limited Partnership owns a waste tire-burning electricity generating facility located in Sterling, Connecticut with a net electrical generating capacity of approximately 26 MW.

Comment date: April 25, 2001, in accordance with Standard Paragraph E at the end of this notice. The Commission will limit its consideration of comments to those that concern the adequacy or accuracy of the application.

14. Michigan Electric Transmission Company and Consumers Energy Company

[Docket No. ER01-1683-000]

Take notice that on March 30, 2001, Consumers Energy Company (Consumers) and Michigan Electric Transmission Company (Michigan Transco) tendered for filing a Notice of Succession and several rate schedule and service agreement documents related to the transfer of transmission assets from Consumers to Michigan Transco.

The Notice of Succession, rate schedules and service agreements are to become effective April 1, 2001, with a termination agreement taking effect March 31, 2001.

A full copy of the filing was served upon the Michigan Public Service Commission, and Customers were sent the Notice of Succession and related materials.

Comment date: April 20, 2001, in accordance with Standard Paragraph E at the end of this notice.

15. Nine Mile Point Nuclear Station, LLC

[Docket No. ES01-26-000]

Take notice that on March 30, 2001, Nine Mile Point Nuclear Station, LLC (Nine Mile) submitted an application pursuant to section 204 of the Federal Power Act seeking authorization to (1) assume a promissory note entered into by Constellation Nuclear, LLC, Nine Mile's indirect parent company, or execute an intercompany note that mirrors such promissory note; (2) execute an intercompany credit agreement and note in order for Constellation Energy Group, Inc., Nine Mile's ultimate parent company, to provide financial assurances with respect to operation and maintenance expenses; and (3) execute a demand note to evidence Nine Mile's participation in the cash pool operated by Constellation Energy Group, Inc. for the benefit of most of its subsidiaries.

Nine Mile also request a waiver of the Commission's competitive bidding and negotiated placement requirements at 18 CFR 34.2.

Comment date: April 24, 2001, in accordance with Standard Paragraph E at the end of this notice.

16. Griffin Energy Marketing, L.L.C. and Wisconsin Electric Power Company

[Docket Nos. ER97-4168-012 and ER98-855-002]

Take notice that on March 30, 2001, Griffin Energy Marketing (Griffin) and Wisconsin Electric Power Company (Wisconsin Electric) tendered for filing a combined updated market power analysis.

Comment date: April 20, 2001, in accordance with Standard Paragraph E at the end of this notice.

17. Tenaska Frontier Partners, Ltd.

[Docket Nos. ER98-1767-005]

Take notice that on March 30, 2001, Tenaska Frontier Partners, Ltd. (Tenaska Frontier) tendered for filing with the Commission its triennial updated market analysis in accordance with Ordering Paragraph J of the Commission's Order in Tenaska Frontier Partners, Ltd., 82 FERC ¶ 61,323 (1998).

Questions concerning this filing may be directed to counsel for Tenaska Frontier, Neil L. Levy, Kirkland & Ellis, 655 Fifteenth Street, NW, Suite 1200, Washington, DC 20005, Phone (202) 879-5116, Fax (202) 879-5200, e-mail Neil_Levy@dc.kirkland.com

Comment date: April 20, 2001, in accordance with Standard Paragraph E at the end of this notice.

18. Entergy Services, Inc.

[Docket No. ER00-1743-003]

Take notice that on March 29, 2001, Entergy Services, Inc., on behalf of the five Entergy Operating Companies: Entergy Arkansas, Inc., Entergy Gulf States, Inc., Entergy Louisiana, Inc., Entergy Mississippi, Inc., and Entergy New Orleans, Inc. (together Entergy), tendered for filing this compliance filing in response to the Commission's March 14, 2001 Order in the above-captioned docket. A copy of this filing has been served upon the state regulators of the Entergy operating companies.

Comment date: April 20, 2001, in accordance with Standard Paragraph E at the end of this notice.

19. Atlantic City Electric Company, Baltimore Gas and Electric Company, Delmarva Power & Light Company, Metropolitan Edison Company, PPL Electric Utilities Corporation, PECO Energy Company, Potomac Electric Power Company, Public Service Electric and Gas Company, and UGI Utilities, Inc.

[Docket No. ER01-897-001]

Take notice that on March 30, 2001, Potomac Electric Power Company, tendered for filing on behalf of itself and the above captioned companies, in compliance with the delegated letter order issued on March 1, 2001, in the above-captioned docket, the following designated rate schedules which have been formatted to comply with the Order No. 614, FERC Stats. & Regs. ¶ 31,096 (2000) pagination requirements that are applicable to rate schedules: Atlantic City Electric Company Rate Schedule FERC No. 75; Baltimore Gas and Electric Company Rate Schedule FERC No. 58; Delmarva Power & Light Company Rate Schedule FERC No. 124; Metropolitan Edison Company Rate Schedule FERC No. 77; PPL Electric Utilities Corporation Rate Schedule FERC No. 168; PECO Energy Company Rate Schedule FERC No. 123; Potomac Electric Power Company Rate Schedule FERC No. 46; Public Service Electric and Gas Company Rate Schedule FERC No. 166; and, UGI Utilities, Inc. Rate Schedule FERC No. 9.

Comment date: April 20, 2001, in accordance with Standard Paragraph E at the end of this notice.

20. Pennsylvania Electric Company

[Docket No. ER01-900-001]

Take notice that on March 30, 2001, Potomac Electric Power Company, tendered for filing in compliance with the delegated letter order issued on March 1, 2001, in the above captioned docket, new pages to be added to the following designated rate schedule which have been formatted to comply with the Order No. 614, FERC Stats. & Regs. ¶ 31,096 (2000) pagination requirements that are applicable to rate schedules: Penelec Rate Schedule FERC No. 63.

Comment date: April 20, 2001, in accordance with Standard Paragraph E at the end of this notice.

21. Pennsylvania Electric Company

[Docket No. ER01-901-001]

Take notice that on March 30, 2001, Potomac Electric Power Company, tendered for filing in compliance with the delegated letter order issued on March 1, 2001, in the above captioned docket, new pages to be added to the following designated rate schedule which have been formatted to comply with the Order No. 614, FERC Stats. & Regs. ¶ 31,096 (2000) pagination requirements that are applicable to rate schedules: Penelec FERC Rate Schedule No. 100.

Comment date: April 20, 2001, in accordance with Standard Paragraph E at the end of this notice.

22. Entergy Services, Inc.

[Docket No. ER01-1593-001]

Take notice that on March 30, 2001, Entergy Services, Inc. (Entergy Services) tendered for filing with the Federal Energy Regulatory Commission three pages of technical drawings that inadvertently were omitted from Appendix A to the unexecuted Interconnection and Operating Agreement between Entergy Services and Mississippi Delta Energy Agency, et al., when it was filed on March 21, 2001. Entergy Services requests that the pages to the Agreement be accepted for filing effective as of May 1, 2001, and requests waiver of the Commission's regulations to the extent necessary to permit such effective date.

Comment date: April 20, 2001, in accordance with Standard Paragraph E at the end of this notice.

23. Duke Energy Corporation

[Docket No. ER01-1616-002]

Take notice that on March 30, 2001 Duke Energy Corporation tendered for filing an amendment to its March 26, 2001 filing in the above-captioned docket.

Comment date: April 20, 2001, in accordance with Standard Paragraph E at the end of this notice.

24. Western Resources, Inc.

[Docket No. ER01-1650-000]

Take notice that on March 30, 2001, Western Resources, Inc., (Western Resources) tendered for filing an Amended and Restated Electric Power Supply Agreement (Agreement) between Western Resources, Inc. d.b.a. KPL and The Doniphan Electric Cooperative Association, Inc., (Cooperative). Western Resources states that this Agreement incorporates language changes from previous amendments as well as revisions to Exhibits II and III in Order 614 complaint format. Western Resources requests an effective date of June 1, 2001.

Copies of the filing were served upon the Cooperative and the Kansas Corporation Commission.

Comment date: April 20, 2001, in accordance with Standard Paragraph E at the end of this notice.

25. Nine Mile Point Nuclear Station, LLC

[Docket No. ER01-1654-000]

Take notice that on March 30, 2001, Nine Mile Point Nuclear Station, LLC (Nine Mile LLC) tendered for filing, pursuant to Section 205 of the Federal Power Act and Part 35 of the Commission's regulations, an Application seeking authorization, on an expedited basis, to make sales at market-based rates and for certain waivers and blanket authorizations. Nine Mile LLC also tendered for filing pursuant to section 205 power purchase agreements for the sale of a portion of the output of the Nine Mile Point Unit No. 1 and Nine Mile Point Unit No. 2 nuclear generating facilities.

Comment date: April 20, 2001, in accordance with Standard Paragraph E at the end of this notice.

26. Bangor Hydro-Electric Company

[Docket No. ER01-1655-000]

Take notice that on March 30, 2001, Bangor Hydro-Electric Company, tendered for filing an executed service agreement for network integration transmission service and an executed network operating agreement with Isle Au Haut Electric Power Company.

Comment date: April 20, 2001, in accordance with Standard Paragraph E at the end of this notice.

27. Bangor Hydro-Electric Company

[Docket No. ER01-1656-000]

Take notice that on March 30, 2001, Bangor Hydro-Electric Company (Bangor Hydro) tendered for filing an executed form of service agreement for the sale of power between Bangor Hydro-Electric Company (Bangor Hydro) and Swan's Island Electric Co-op under Bangor Hydro's Market-Based Rate Tariff, Electric Tariff, Original Volume No. 3.

Comment date: April 20, 2001, in accordance with Standard Paragraph E at the end of this notice.

28. Bangor Hydro-Electric Company

[Docket No. ER01-1657-000]

Take notice that on March 30, 2001, Bangor Hydro-Electric Company, tendered for filing an executed service agreement for network integration transmission service and an executed network operating agreement with Swan's Island Electric Coop.

Comment date: April 20, 2001, in accordance with Standard Paragraph E at the end of this notice.

29. Bangor Hydro-Electric Company

[Docket No. ER01-1658-000]

Take notice that on March 30, 2001, Bangor Hydro-Electric Company (Bangor Hydro), tendered for filing an executed form of service agreement for the sale of power between Bangor Hydro-Electric Company (Bangor Hydro) and Isle Au Haut Electric Power Company under Bangor Hydro's Market-Based Rate Tariff, Electric Tariff, Original Volume No. 3.

Comment date: April 20, 2001, in accordance with Standard Paragraph E at the end of this notice.

30. Pacific Gas and Electric Company

[Docket No. ER01-1659-000]

Take notice that on March 30, 2001, Pacific Gas and Electric Company (PG&E) tendered for filing changes to rate schedules for electric transmission service to the following customers: Bay Area Rapid Transit District, California Department of Water Resources, Dynegy Power Services, Inc., Minnesota Methane LLC, Modesto Irrigation District, Northern California Power Agency, Sacramento Municipal Utility District, the City and County of San Francisco, California, the City of Santa Clara, California (also known as Silicon Valley Power), the Transmission Agency of Northern California, Turlock Irrigation District and the Western Area Power Administration for services to Sonoma County Water Agency.

The changes include a change in the existing wholesale transmission rate methodologies and a rate change to reflect the current cost of providing service to the foregoing customers.

Copies of this filing have been served upon the California Public Utilities Commission and the affected customers.

Comment date: April 20, 2001, in accordance with Standard Paragraph E at the end of this notice.

31. Public Service Company of New Mexico

[Docket No. ER01-1660-000]

Take notice that on March 30, 2001, Public Service Company of New Mexico (PNM) tendered for filing an Interim Invoicing Agreement with respect to invoicing for coal deliveries from San Juan Coal Company among PNM, Tucson Electric Power Company (TEP), and the other owners of interests in the San Juan Generating Station covering the period from January 1, 2001 through December 31, 2001. The Interim Invoicing Agreement effectively modifies the San Juan Project Participation Agreement (PPA), for that same period and although the PPA is already on file at the FERC, it has not been conformed to the FERC Identification and Numbering requirements set forth in FERC Order No. 614, and PNM has therefore included a revised copy of the PPA with proper Identification and Numbering in this filing and has incorporated the Interim Invoicing Agreement as an attachment the PPA. PNM's filing is available for public inspection at its offices in Albuquerque, New Mexico.

PNM requests waiver of the Commission's notice requirements in order to allow the Interim Invoicing Agreement to be effective as of January 1, 2001.

Copies of the filing have been sent to the New Mexico Public Regulation Commission, TEP, and each of the owners of an interest in the San Juan Generating Station.

Comment date: April 20, 2001, in accordance with Standard Paragraph E at the end of this notice.

32. Kansas Gas & Electric Company

[Docket No. ER01-1661-000]

Take notice that on March 30, 2001, Kansas Gas & Electric Company (KGE) tendered for filing a change in its Federal Power Commission Electric Service Tariff No. 93. KGE states that the change is to reflect the amount of transmission capacity requirements required by Western Resources, Inc. (WR) under Service Schedule M to FPC Rate Schedule No. 93 for the period from June 1, 2001 through May 31, 2002. KGE requests an effective date of June 1, 2001.

Notice of the filing has been served upon the Kansas Corporation Commission.

Comment date: April 20, 2001, in accordance with Standard Paragraph E at the end of this notice.

33. Central Illinois Light Company

[Docket No. ER01-1662-000]

Take notice that on March 30, 2001, Central Illinois Light Company (CILCO), 300 Liberty Street, Peoria, Illinois 61602, tendered for filing with the Commission a substitute Index of Network Transmission Service Customers under its Open Access Transmission Tariff and one network service agreement for one new customer, the Village of Riverton.

CILCO requested an effective date of March 1, 2001 for the service agreement.

Copies of the filing were served on the affected customer and the Illinois Commerce Commission.

Comment date: April 20, 2001, in accordance with Standard Paragraph E at the end of this notice.

34. Entergy Services, Inc.

[Docket No. ER01-1664-000]

Take notice that on March 30, 2001, pursuant to Section 205 of the Federal Power Act, 16 U.S.C. 824d and 18 CFR Part 35, Entergy Services, Inc. (ESI), tendered for filing a three-month (June 1, 2001 through August 31, 2001) Transaction Agreement between Entergy Gulf States, Inc., (EGS), as seller, and ESI, as buyer, on behalf of those of the Entergy Operating Companies which have authority to enter into this Transaction Agreement (ESI and said Entergy Operating Companies collectively hereinafter referred to as Entergy).

Entergy requests an effective date of June 1, 2001 for the Transaction Agreement. Entergy states that the Transaction Agreement is nearly identical to the agreement filed and accepted for Summer 2000. Entergy renews the same commitments it made to its retail regulators and certain wholesale customers that the Commission relied on in accepting the 2000 agreement for filing.

Entergy has served a copy of this filing on its state and local regulatory commissions, East Texas Cooperatives and Arkansas Electric Cooperative Corporation.

Comment date: April 20, 2001, in accordance with Standard Paragraph E at the end of this notice.

35. American Transmission Company LLC

[Docket No. ER01-1665-000]

Take notice that on March 30, 2001, American Transmission Company LLC (ATCLLC) tendered for filing a Revised Network Operating Agreement and a Revised Network Integration Transmission Service Agreement with The Village of Pardeeville. ATCLLC requests an effective date of January 1, 2001.

The Service Agreement sets forth the general rates, terms and conditions pursuant to which Southern Companies will supply Monroe Power with unscheduled capacity and energy in connection with sales from its electric generation facility, as a replacement for unintentional differences between the net metered capacity and energy actually delivered by the facility, during a clock-hour, and the capacity and energy the facility is obligated to supply during such clock-hour. The Service Agreement shall terminate upon twelve (12) months prior written notice of either party.

Comment date: April 20, 2001, in accordance with Standard Paragraph E at the end of this notice.

36. American Transmission Company LLC

[Docket No. ER01-1666-000]

Take notice that on March 30, 2001, American Transmission Company LLC (ATCLLC) tendered for filing a Short-Term Firm and Non-Firm Point-to-Point Transmission Service Agreements between ATCLLC and Allegheny Energy Supply Company, LLC. ATCLLC requests an effective date of April 1, 2001.

Comment date: April 20, 2001, in accordance with Standard Paragraph E at the end of this notice.

37. American Transmission Company LLC

[Docket No. ER01-1667-000]

Take notice that on March 30, 2001, American Transmission Company LLC (ATCLLC) tendered for filing a Revised Network Operating Agreement and a Revised Network Integration Transmission Service Agreement between ATCLLC and The Village of Pardeeville. ATCLLC requests an effective date of January 1, 2001.

Comment date: April 20, 2001, in accordance with Standard Paragraph E at the end of this notice.

38. Potomac Electric Power Company, Atlantic City Electric Company, Baltimore Gas and Electric Company, Delmarva Power & Light Company, Metropolitan Edison Company, PPL Electric Utilities Corporation, PECO Energy Company, and Public Service Electric and Gas Company

[Docket No. ER01-1668-000]

Take notice that on March 30, 2001, Potomac Electric Power Company, Atlantic City Electric Company, Baltimore Gas and Electric Company, Delmarva Power & Light Company, Metropolitan Edison Company, PPL Electric Utilities Corporation, PECO Energy Company, and Public Service Electric and Gas Company tendered for filing Notices of Cancellation of rate schedules.

Comment date: April 20, 2001, in accordance with Standard Paragraph E at the end of this notice.

39. California Independent System Operator Corporation

[Docket No. ER01-1669-000]

Take notice that on March 30, 2001, the California Independent System Operator Corporation (ISO), tendered for filing a Meter Service Agreement for Scheduling Coordinators between the ISO and Commonwealth Energy Corporation for acceptance by the Commission.

The ISO states that this filing has been served on Commonwealth Energy Corporation and the California Public Utilities Commission.

The ISO is requesting waiver of the 60-day notice requirement to allow the Meter Service Agreement to be made effective as of March 26, 2001.

Comment date: April 20, 2001, in accordance with Standard Paragraph E at the end of this notice.

40. California Independent System Operator Corporation

[Docket No. ER01-1670-000]

Take notice that on March 30, 2001, the California Independent System Operator Corporation (ISO), tendered for filing a Scheduling Coordinator Agreement between the ISO and Commonwealth Energy Corporation for acceptance by the Commission.

The ISO states that this filing has been served on Commonwealth Energy Corporation and the California Public Utilities Commission.

The ISO is requesting waiver of the 60-day notice requirement to allow the Scheduling Coordinator Agreement to be made effective as of March 26, 2001.

Comment date: April 20, 2001, in accordance with Standard Paragraph E at the end of this notice.

41. PJM Interconnection, L.L.C.

[Docket No. ER01-1671-000]

Take notice that on March 30, 2001, PJM Interconnection, L.L.C. (PJM), tendered for filing amendments to the PJM Open Access Transmission Tariff and the Amended and Restated PJM Operating Agreement to add the PJM 2001-2002 Load Response Pilot Program to facilitate load reductions during peak periods. Copies of this filing were served upon all PJM members and each state electric utility regulatory commission in the PJM control area.

PJM requests an effective date of June 1, 2001 for the amendments.

Comment date: April 20, 2001, in accordance with Standard Paragraph E at the end of this notice.

42. Carolina Power & Light Company

[Docket No. ER01-1672-000]

Take notice that on March 30, 2001, Carolina Power & Light Company (CP&L) tendered for filing amended a Power Supply Agreement dated November 2, 1998 between North Carolina Electric Membership Corporation (NCEMC) and CP&L, Rate Schedule FERC No. 134 (the PSA). The amendment to the PSA includes a revenue neutral change to the capacity rate and billing determinant for SOR B service during calendar year 2001. The amendment also includes a modification to the assignment provision in Section 15.5 of the PSA. CP&L respectfully requests waiver of the Commission's notice of filing requirements to allow the amendment to become effective on January 1, 2001.

Copies of the filing were served upon NCEMC, the North Carolina Utilities Commission and the South Carolina Public Service Commission.

Comment date: April 20, 2001, in accordance with Standard Paragraph E at the end of this notice.

43. Delmarva Power & Light Company

[Docket No. ER01-1673-000]

Take notice that on March 30, 2001, Delmarva Power & Light Company (Delmarva) tendered for filing a Notice of Termination of its Rate Schedule FERC No. 110 with the Town of Berlin, Maryland (Berlin), effective May 31, 2001.

Delmarva has served this filing upon the Town of Berlin and its counsel, Conectiv (which is Delmarva's corporate parent), the Maryland Public Service Commission and the Delaware Public Service Commission.

Comment date: April 20, 2001, in accordance with Standard Paragraph E at the end of this notice.

44. Southern California Edison Company

[Docket No. ER01-1674-000]

Take notice that on March 30, 2001, Southern California Edison Company (SCE) tendered for filing the Second Amended and Restated SCE-IID Mirage 230 kV Interconnection Agreement (Agreement) between SCE and Imperial Irrigation District (IID), which provides for the terms to reconfigure the Mirage-Coachella 230 kV transmission line by routing the line into a new IID owned substation.

SCE requests that the Agreement become effective on June 1, 2001.

Copies of this filing were served upon the Public Utilities Commission of the State of California and IID.

Comment date: April 20, 2001, in accordance with Standard Paragraph E at the end of this notice.

45. Entergy Solutions Supply Ltd.

[Docket No. ER01-1675-000]

Take notice that on March 30, 2001, Entergy Solutions Supply Ltd. tendered for filing an application for authorization to sell power at market-based rates. Copies of this filing have been served on the Arkansas Public Service Commission, Mississippi Public Service Commission, Louisiana Public Service Commission, Texas Public Utility Commission, and the Council of the City of New Orleans.

Comment date: April 20, 2001, in accordance with Standard Paragraph E at the end of this notice.

46. FPL Energy MH50, L.P.

[Docket No. ER01-1676-000]

Take notice that on March 30, 2001, FPL Energy MH50, L.P. (MH50) tendered for filing, under section 205 of the Federal Power Act, a rate schedule for reactive support services provided to the Pennsylvania-New Jersey-Maryland Interconnection (PJM) transmission grid. MH50 requests an effective date for the proposed rate schedule of April 1, 2001. MH50 states that a copy of this filing has been mailed to PJM.

Comment date: April 20, 2001, in accordance with Standard Paragraph E at the end of this notice.

47. Public Service Company of New Mexico

[Docket No. ER01-1677-000]

Take notice that on March 30, 2001, Public Service Company of New Mexico (PNM) tendered for filing a completely revised version of PNM's Open Access Transmission Tariff (OATT) to: (1) incorporate a new Attachment J—Generator Interconnection Procedures, a new Attachment J-1—Request for Interconnection of Generation With The PNM Transmission System, and a new Attachment K—Index of Interconnection Service Customers; and (2) conform its OATT to FERC Order No. 614 “Identification and Numbering” requirements. PNM's filing is available for public inspection at its offices in Albuquerque, New Mexico.

Copies of the filing have been sent to all PNM Tariff customers, all entities that have pending interconnection requests with PNM and the New Mexico Public Regulation Commission

Comment date: April 20, 2001, in accordance with Standard Paragraph E at the end of this notice.

48. The Connecticut Light and Power Company

[Docket No. ER01-1678-000]

Take notice that on March 30, 2001, The Connecticut Light and Power Company tendered for filing, pursuant to section 35.15, 18 CFR 35.15 of the Commission's regulations, a notice of termination of the Rate Schedule FERC No. CL&P 558 and supplements thereto, filed with the Commission by The Connecticut Light and Power Company and accepted for filing on November 9, 1992. The Connecticut Light and Power Company requests that the termination of the rate schedule be made effective the 1st day of April, 2001.

Connecticut Light and Power states that a copy of this filing has been mailed to the Town of Wallingford Department of Public Utilities, the sole customer served under this rate schedule, and the Connecticut Department of Public Utility Control.

Comment date: April 20, 2001, in accordance with Standard Paragraph E at the end of this notice.

49. Ameren Energy Generating Company and Ameren Energy Marketing Company

[Docket Nos. ER01-1679-000 ER01-1680-000]

Take notice that on March 30, 2001, Ameren Energy Generating Company and Ameren Energy Marketing Company (collectively, Applicants) tendered for filing amendments to two existing power supply agreements to allow sales of certain ancillary services at cost-based rates and to make other clarifying changes. Applicants seek an effective date of April 1, 2001, for the amendments.

Copies of this filing were served on the affected state utility commissions.

Comment date: April 20, 2001, in accordance with Standard Paragraph E at the end of this notice.

50. Cincinnati Gas & Electric Company

[Docket No. ER01-1681-000]

Take notice that on March 30, 2001, Cincinnati Gas & Electric Company (CG&E) tendered for filing an application for application for reclassification of its transmission and distribution facilities as required by the Ohio Public Utilities Commission. In accordance with the seven-factor test established by the Commission in Order No. 888, CG&E proposes to designate all of its directly-owned Ohio facilities operated at 69 kV and above as FERC-jurisdictional transmission facilities and to designate all of its remaining Ohio facilities as state-jurisdictional distribution facilities.

The sole purpose of this application is to facilitate unbundled retail transmission in the state of Ohio. CG&E does not seek in this application to adjust its service rates.

Comment date: April 20, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8855 Filed 4-10-01; 8:45 am]

BILLING CODE 6717-01-P